DEPARTMENT OF ENERGY

Federal Energy Regulatory Commission

[Docket Nos. CP17-470-000; PF15-25-000]

Freeport LNG Development, L.P.; FLNG Liquefaction 4, LLC; Notice of Applications

Take notice that, on June 29, 2017, Freeport LNG Development, L.P. and FLNG Liquefaction 4, LLC, (Freeport LNG) 333 Clay Street, Suite 5050, Houston, TX 77002, filed an application seeking authorization pursuant to section 3(a) of the Natural Gas Act, and parts 153 and 380 of the regulations of the Federal Energy Regulatory Commission (FERC or Commission), to site, construct, and operate additional natural gas liquefaction facilities at Freeport LNG Development, L.P.'s existing Quintana Island Terminal in Brazoria County, Texas, as well as associated pretreatment and pipeline facilities, for the purpose of liquefying domestic natural gas for export to foreign countries.

Any questions regarding the application should be directed to: John Tobola, Freeport LNG Development, L.P., 333 Clay Street, Suite 5050, Houston, TX 77002, (713) 980-2888, JTobola@freeportlng.com; or Lisa M. Tonery, Partner, Orrick, Herrington & Sutcliffe LLP, 51 West 52nd Street, New York, NY 10019-6142, (212) 506-3710, ltonery@orrick.com.

This filing is available for review at the Commission's Washington, DC offices, or may be viewed on the Commission's Web site at http://www.ferc.gov using the “e-Library” link. Enter the docket number, excluding the last three digits, in the docket number field to access the document. For assistance, please contact FERC Online Support at FERCOnlineSupport@ferc.gov, or call toll-free at (866) 208-3676, or for TTY, contact (202) 502-8659.

On June 3, 2015, FERC granted Freeport LNG's request to initiate the pre-filing review process for the Train 4 Project. During the pre-filing process, Freeport LNG participated in meetings with local, state, and federal officials, as well as individual and agency stakeholders, to identify and resolve issues of potential concern at an early juncture. On August 19, 2015, FERC issued a Notice of Intent to prepare an Environmental Assessment for the Project and Request for Comments. Now, as of the filing of the application on June 29, 2017, the pre-filing process for this project has ended. From this time forward, Freeport LNG's proceeding will be conducted in Docket No. CP17-470-000, as noted in the caption of this Notice.

There are two ways to become involved in the Commission's review of this Project. First, any person wishing to obtain legal status by becoming a party to the proceeding for this project should file with the Federal Energy Regulatory Commission, 888 First Street NE., Washington, DC 20426, a motion to intervene in accordance with the requirements of the Commission's Rules of Practice and Procedure, 18 CFR 385.214, 385.211 (2016), by the comment date below. A person obtaining party status will be placed on the service list maintained by the Secretary of the Commission, and will receive copies of all documents filed by the applicant and by all other parties. A party must submit filings made with the Commission by mail, hand delivery, or internet, in accordance with Rule 2001 of the Commission's Rules of Practice and Procedure, id. 385.2001. A copy must be served on every other party in the proceeding. Only parties to the proceeding can ask for court review of Commission orders in the proceeding.

However, a person does not have to intervene to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Protests and interventions may be filed electronically via the Internet in lieu of paper; see 18 CFR 385.2001(a)(1)(iii) and the instructions on the Commission's Web site under the e-filing link. The Commission strongly encourages electronic filings.

If the Commission decides to set the application for a formal hearing before an Administrative Law Judge, the Commission will issue another notice describing that process. At the end of the Commission's review process, a final Commission order approving or denying the requested authorization will be issued.

Comment Date: 5:00 p.m. Eastern Daylight Savings Time August 4, 2017.

Dated: July 14, 2017.
Kimberly D. Bose,
Secretary.

[FR Doc. 2017-15245 Filed 7-19-17; 8:45 am]

BILLING CODE 6717-01-P